DEPARTMENT OF ENERGY

Federal Energy Regulatory Commission

[Project No. 344-023]

Southern California Edison Company; Notice of Availability of Draft Environmental Assessment

In accordance with the National Environmental Policy Act of 1969 and the Federal Energy Regulatory Commission's (Commission or FERC's) regulations, 18 Code of Federal Regulations (CFR) part 380 (Order No. 486, 52 Federal Register 47897), the Office of Energy Projects has prepared a draft environmental assessment (EA) for an application filed by Southern California Edison Company (licensee) on September 28, 2010, requesting Commission approval to surrender the project license for the San Gorgonio Hydroelectric Power Project, located on the San Gorgonio and Whitewater rivers in San Bernardino and Riverside counties, California. Following surrender of the license, the licensee would transfer some of the project facilities to San Gorgonio Pass Water Agency, Banning Heights Mutual Water Company, and the City of Banning, California, to allow continuation of water deliveries to the local communities.

The draft EA evaluates the environmental effects that would result from approving the licensee's proposed surrender. The draft EA finds that approval of the application would not constitute a major federal action significantly affecting the quality of the human environment. A copy of the draft EA is on file with the Commission and is available for public inspection. The draft EA may also be viewed on the Commission's Web site at http://www.ferc.gov using the “eLibrary” link. Enter the docket number (P-344) excluding the last three digits in the docket number field to access the document. You may also register online at www.ferc.gov/docs-filing/esubscription.asp to be notified via email of new filings and issuances related to this or other pending projects. For assistance, contact FERC Online Support at FERCOnlineSupport@ferc.gov or toll-free at 1-866-208-3372, or for TTY, (202) 502-8659.

Any comments should be filed within 30 days from the date of this notice. Comments may be filed electronically via the Internet. See 18 CFR 385.2001(a)(1)(iii) and the instructions on the Commission's Web site at http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and five copies to: Kimberly D. Bose, Secretary, Federal Energy Regulatory Commission, 888 First Street NE., Washington, DC 20426.

For further information, contact Rebecca Martin by telephone at 202-502-6012 or by email at Rebecca.martin@ferc.gov.

Dated: April 22, 2013.
Kimberly D. Bose,
Secretary.

[FR Doc. 2013-09986 Filed 4-26-13; 8:45 am]

BILLING CODE 6717-01-P